DEPARTMENT OF AGRICULTURE

Rural Utilities Service

Tri-State Generation and Transmission Association, Inc.: Notice of Availability of an Environmental Assessment

AGENCY: Rural Utilities Service, USDA.

ACTION: Notice of Availability of an Environmental Assessment.

SUMMARY: The Rural Utilities Service (RUS), an agency of the United States Department of Agriculture, has issued an Environmental Assessment (EA) to meet its responsibilities under the National Environmental Policy Act (NEPA), the Council on Environmental Quality's (CEQ) regulations for implementing NEPA (40 CFR Parts 1500-1508), and RUS's Environmental and Policies and Procedures (7 CFR Part 1794) in connection with potential impacts related to a proposal by Tri-State Generation and Transmission Association, Inc. (Tri-State) with headquarters in Westminster, Colorado. The proposal consists of the construction of approximately 72 miles of 230 kilovolt (kV) transmission line in eastern Colorado between the Burlington Substation (located in Kit Carson County) and the Wray Substation (located in Yuma County) (proposed Project). Tri-State is requesting financial assistance from RUS for the construction of the proposed Project.

RUS is considering funding the proposed Project, thereby making it an undertaking subject to review under Section 106 of the National Historic Preservation Act (NHPA), 16 U.S.C. 470(f), and its implementing regulation, “Protection of Historic Properties” (36 CFR part 800). To meet its responsibilities under Section 106, RUS must take into account the effect of the proposed Project on historic properties; i.e., buildings, structures, sites, objects and districts which are listed or eligible for listing on the National Register of Historic Places (NRHP). RUS has coordinated its compliance with Section 106 with the steps taken to comply with NEPA and its environmental policies and procedures. Accordingly, this EA also documents the manner in which RUS has met its responsibilities to take into account effects to historic properties. RUS has determined that the proposed project will have no adverse effects to historic properties listed on or eligible for listing on the NRHP.

DATES: Written comments on this Notice must be received on or before January 8, 2014.

ADDRESSES: Copies of the EA will be available for public review at the Agency's Web site: http://www.rurdev.usda.gov/UWP-EA-Burlington-Wray.html., at Tri-State's Web site: http://www.tristategt.org/Transmission/Burlington-Wray.cfm, and at the following repositories:

Table 5—FY 2013 Common Pool Incidental Catch TACs
Building location | Address | Phone
Wray Public Library | 621 Blake Street Wray, CO 80758 | 970-332-4744
Burlington Public Library | 321 14th Street Burlington, CO 90907 | 719-346-8109

FOR FURTHER INFORMATION CONTACT: To obtain copies of the EA or for further information, contact Mr. Dennis Rankin, Environmental Protection Specialist, USDA/RUS, 1400 Independence Ave. SW., Room 2244-S, Stop 1571, Washington, DC 20250-1571, or email: dennis.rankin@wdc.usda.gov.

SUPPLEMENTARY INFORMATION: Tri-State proposes to construct a single-circuit 230-kV line approximately 72 miles in length between the Burlington Substation (located in Kit Carson County) and the Wray Substation (located in Yuma County). The Burlington Substation would be expanded from the existing two breaker arrangement to a three breaker ring bus arrangement to allow for the new 230-kV line bay. The Wray Substation would require a new 230-kV ring bus configuration with three new 230-kV circuit breakers.

The overall purpose of the proposed Project is to alleviate transmission systems limitations in eastern Colorado, improve Tri-State's ability to dispatch generation resources in eastern Colorado, and to improve Tri-State's ability to deliver energy to native load customers. Specifically, the proposed Project would remedy the following existing system deficiencies: (1) The Burlington-Wray 115-kV transmission line limits Tri-States ability to dispatch existing Limon and Burlington generation resources; (2) Operating restrictions have been placed on the new 51 megawatt (MW) Kit Carson Windpower Project limit due to thermal limitations on the 115-kV transmission line; and (3) Thermal limits on the 115-kV line restrict present and future deliverability of power from Tri-State generation resources (on the north side of the bottleneck) to serve Tri-State's electric load in southeastern Colorado (on the other side of the bottleneck).

An EA that describes the proposed Project in detail and discusses its anticipated environmental impacts has been prepared by Tri-State and Tetra Tech. RUS has reviewed and accepted the document as its EA for the proposed Project.

Questions and comments should be sent to RUS at the mailing or email addresses provided in this Notice. RUS should receive comments on the EA in writing by January 8, 2014 to ensure that they are considered in its environmental impact determination. Should RUS, based on the EA, determine that the impacts of the construction and operation of the proposed Project would not have a significant environmental impact; it will prepare a Finding of No Significant Impact. Public notification of a Finding of No Significant Impact would be published in the Federal Register and in newspapers with circulation in the proposal area.

Any final action by RUS related to the proposed Project will be subject to, and contingent upon, compliance with all relevant Federal, State and local environmental laws and regulations, and completion of the environmental review requirements as prescribed in RUS's Environmental Policies and Procedures (7 CFR Part 1794).

Dated: November 22, 2013.
Mark S. Plank,
Director, Engineering and Environmental Staff, USDA, Rural Utilities Service.

[FR Doc. 2013-29269 Filed 12-6-13; 8:45 am]

BILLING CODE 3410-15-P